DEPARTMENT OF LABOR

Employment and Training Administration

[TA-W-82,993]

Welch Allyn; Including On-Site Leased Workers From Kelly Services and Ajilon/Modis; Beaverton, Oregon; Amended Certification Regarding Eligibility To Apply for Worker Adjustment Assistance

In accordance with Section 223 of the Trade Act of 1974, as amended (“Act”), 19 U.S.C. 2273, the Department of Labor issued a Certification of Eligibility to Apply for Worker Adjustment Assistance on October 31, 2013, applicable to workers of Welch Allyn, including on-site leased workers from Kelly Services, Beaverton, Oregon (TA-W-82,993) and Welch Allyn, Manufacturing Division, including on-site leased workers from Kelly Services, Skaneateles Falls, New York (TA-W-82,993A). The Department's notice of determination was published in the Federal Register on November 21, 2013 (78 FR 69880).

At the request of the state workforce office, the Department reviewed the certification for workers of the subject firm. The workers were engaged in the production of medical monitoring equipment.

The investigation confirms that workers of Ajilon/Modis were sufficiently under the operational control of the firm to be considered leased workers. The intent of the Department is to certify all workers of the firm who were affected by the shift in production to a foreign country.

Based on these findings, the Department is amending this certification to include on-site leased workers of Ajilon/Modis.

The amended notice applicable to TA-W-82,993 is hereby issued as follows:

All workers of Welch Allyn, including on-site leased workers from Kelly Services and Ajilon/Modis, Beaverton, Oregon (TA-W-82,993) and Welch Allyn, Manufacturing Division, including on-site leased workers from Kelly Services, Skaneateles Falls, New York (TA-W-82,993A), who became totally or partially separated from employment on or after August 14, 2012 through October 31, 2015, and all workers in the group threatened with total or partial separation from employment on the date of certification through October 31, 2015, are eligible to apply for adjustment assistance under Chapter 2 of Title II of the Trade Act of 1974, as amended.

Signed in Washington, DC, this 1st day of May, 2014.
Michael W. Jaffe.
Certifying Officer, Office of Trade Adjustment Assistance.

[FR Doc. 2014-11638 Filed 5-20-14; 8:45 am]

BILLING CODE 4510-FN-P